DEPARTMENT OF TRANSPORTATION

Federal Aviation Administration

14 CFR Part 121

[Docket No. FAA-2009-0675; Amendment No. 121-363]

RIN 2120-AJ43

Activation of Ice Protection

AGENCY: Federal Aviation Administration, DOT.

ACTION: Final rule; technical amendment.

SUMMARY: The FAA is correcting a final rule published on August 22, 2011 (76 FR 52241). In that rule, the FAA amended its regulations to create new operating rules for flight in icing conditions. This document corrects an error in the amendatory language of the final rule which inadvertently led to the omission of the new section from the Code of Federal Regulations.

DATES: Effective March 13, 2013.

FOR FURTHER INFORMATION CONTACT: For operational questions, contact Charles J. Enders, Air Carrier Operations Branch, AFS-220, Flight Standards Service, Federal Aviation Administration, 800 Independence Ave. SW., Washington, DC 20591; telephone (202) 493-1422; facsimile (202) 267-5229; email Charles.J.Enders@faa.gov.

For aircraft certification questions, contact Robert Jones, Propulsion/Mechanical Systems Branch, ANM-112, Federal Aviation Administration, 1601 Lind Avenue SW., Renton, WA 98057-3356; telephone (425) 227-1234; facsimile (425) 227-1007; email Robert.C.Jones@faa.gov.

For legal questions concerning this action, contact Doug Anderson, Office of Regional Counsel, Federal Aviation Administration, 1601 Lind Avenue SW., Renton, WA 98057-3356; telephone (425) 227-2166; facsimile (425) 227-1007; email Douglas.Anderson@faa.gov.

SUPPLEMENTARY INFORMATION:

Background

On August 22, 2011, the FAA published a final rule entitled, “Activation of Ice Protection,” (76 FR 52241).

In that final rule the FAA added operating rules for flight in icing conditions. For certain airplanes certificated for flight in icing, the new standards require either installation of ice detection equipment or changes to the airplane flight manual to ensure timely activation of the airframe icing protection system. The FAA inadvertently wrote the amendatory language incorrectly to say that we were revising § 121.321 when, in fact, we were creating that section and adding it to the CFR.

The Technical Amendment

This technical amendment corrects the amendatory language of the final rule to indicate that § 121.321 is being added, not revised.

Because the change in this technical amendment results in no substantive change, we find good cause exists under 5 U.S.C. 553(d)(3) to make the amendment effective in less than 30 days.

List of Subjects in 14 CFR Part 121

Air carriers, Aircraft, Aviation safety, Reporting and recordkeeping requirements.

The Amendment

In consideration of the foregoing, the Federal Aviation Administration amends Chapter I of Title 14, Code of Federal Regulations, as follows:

PART 121—OPERATING REQUIREMENTS: DOMESTIC, FLAG, AND SUPPLEMENTAL OPERATIONS

1. The authority citation for part 121 continues to read as follows:

Authority: 49 U.S.C. 106(g), 40113, 40119, 41706, 44101, 44701-44702, 44705, 44709-44711, 44713, 44716-44717, 44722, 44901, 44903-44904, 44912, 45101-45105, 46105, 46301.

2. Add new § 121.321 to read as follows:

§ 121.321 Operations in icing.

After October 21, 2013, no person may operate an airplane with a certificated maximum takeoff weight less than 60,000 pounds in conditions conducive to airframe icing unless it complies with this section. As used in this section, the phrase “conditions conducive to airframe icing” means visible moisture at or below a static air temperature of 5 °C or a total air temperature of 10 °C, unless the approved Airplane Flight Manual provides another definition.

(a) When operating in conditions conducive to airframe icing, compliance must be shown with paragraph (a)(1), or (2), or (3) of this section.

(1) The airplane must be equipped with a certificated primary airframe ice detection system.

(i) The airframe ice protection system must be activated automatically, or manually by the flightcrew, when the primary ice detection system indicates activation is necessary.

(ii) When the airframe ice protection system is activated, any other procedures in the Airplane Flight Manual for operating in icing conditions must be initiated.

(2) Visual cues of the first sign of ice formation anywhere on the airplane and a certificated advisory airframe ice detection system must be provided.

(i) The airframe ice protection system must be activated when any of the visual cues are observed or when the advisory airframe ice detection system indicates activation is necessary, whichever occurs first.

(ii) When the airframe ice protection system is activated, any other procedures in the Airplane Flight Manual for operating in icing conditions must be initiated.

(3) If the airplane is not equipped to comply with the provisions of paragraph (a)(1) or (2) of this section, then the following apply:

(i) When operating in conditions conducive to airframe icing, the airframe ice protection system must be activated prior to, and operated during, the following phases of flight:

(A) Takeoff climb after second segment,

(B) En route climb,

(C) Go-around climb,

(D) Holding,

(E) Maneuvering for approach and landing, and

(F) Any other operation at approach or holding airspeeds.

(ii) During any other phase of flight, the airframe ice protection system must be activated and operated at the first sign of ice formation anywhere on the airplane, unless the Airplane Flight Manual specifies that the airframe ice protection system should not be used or provides other operational instructions.

(iii) Any additional procedures for operation in conditions conducive to icing specified in the Airplane Flight Manual or in the manual required by § 121.133 must be initiated.

(b) If the procedures specified in paragraph (a)(3)(i) of this section are specifically prohibited in the Airplane Flight Manual, compliance must be shown with the requirements of paragraph (a)(1) or (2) of this section.

(c) Procedures necessary for safe operation of the airframe ice protection system must be established and documented in:

(1) The Airplane Flight Manual for airplanes that comply with paragraph (a)(1) or (2) of this section, or

(2) The Airplane Flight Manual or in the manual required by § 121.133 for airplanes that comply with paragraph (a)(3) of this section.

(d) Procedures for operation of the airframe ice protection system must include initial activation, operation after initial activation, and deactivation. Procedures for operation after initial activation of the ice protection system must address—

(1) Continuous operation,

(2) Automatic cycling,

(3) Manual cycling if the airplane is equipped with an ice detection system that alerts the flightcrew each time the ice protection system must be cycled, or

(4) Manual cycling based on a time interval if the airplane type is not equipped with features necessary to implement (d)(1)-(3) of this section.

(e) System installations used to comply with paragraph (a)(1) or (a)(2) of this section must be approved through an amended or supplemental type certificate in accordance with part 21 of this chapter.

Issued in Washington, DC, on March 7, 2013.
Lirio Liu,
Director, Office of Rulemaking.

[FR Doc. 2013-05791 Filed 3-12-13; 8:45 am]

BILLING CODE 4910-13-P